DEPARTMENT OF COMMERCE

National Oceanic and Atmospheric Administration

RIN: 0648-XX89

North Pacific Fishery Management Council; Public Meetings; Correction

AGENCY: National Marine Fisheries Service (NMFS), National Oceanic and Atmospheric Administration (NOAA), Commerce.

ACTION: Notice of public meetings.

SUMMARY: The North Pacific Fishery Management Council (Council) and its advisory committees will hold public meetings, August 16-19, 2010.

DATES: The Council will begin its plenary session at 8 a.m. on Wednesday, August 18 continuing through Thursday, August 19, 2010. The Council's Advisory Panel (AP) will begin at 8 a.m., Tuesday, August 17 and continue through Wednesday, August 18, 2010. The Scientific and Statistical Committee (SSC) will begin at 8 a.m. on Monday, August 16 and continue through Tuesday August 17, 2010. All meetings are open to the public, except executive sessions.

ADDRESSES: The meetings will be held at the Hotel Captain Cook, 939 West 5th Avenue, Anchorage, AK.

Council address: North Pacific Fishery Management Council, 605 W. 4th Avenue, Suite 306, Anchorage, AK 99501-2252.

FOR FURTHER INFORMATION CONTACT: David Witherell, Council staff, telephone: (907) 271-2809.

SUPPLEMENTARY INFORMATION: This notice is an addendum to the previously published meeting agenda. The original notice published in the Federal Register on July 28, 2010 (75 FR 44228). In addition to reviewing the Draft Biological Opinion for Steller sea lions, the Council will review a draft EA/RIR for potential mitigation alternatives and take action as necessary. The Council may take action as appropriate on any of the issues identified. The Agenda is subject to change, and the latest version will be posted at http://www.alaskafisheries.noaa.gov/npfmc/

Special Accommodations

These meetings are physically accessible to people with disabilities. Requests for sign language interpretation or other auxiliary aids should be directed to Gail Bendixen at (907) 271-2809 at least 7 working days prior to the meeting date.

Dated: July 28, 2010.
Tracey L. Thompson,
Acting Director, Office of Sustainable Fisheries, National Marine Fisheries Service.

[FR Doc. 2010-18875 Filed 7-30-10; 8:45 am]

BILLING CODE 3510-22-S